DEPARTMENT OF ENERGY

Federal Energy Regulatory Commission

[Project No. 2458-273]

Great Lakes Hydro America, LLC; Notice of Application Tendered for Filing With the Commission and Establishing Procedural Schedule for Licensing and Deadline for Submission of Final Amendments

Take notice that the following hydroelectric application has been filed with the Commission and is available for public inspection.

a. Type of Application: New Major License.

b. Project No.: 2458-273.

c. Date Filed: September 30, 2024.

d. Applicant: Great Lakes Hydro American, LLC (GLHA).

e. Name of Project: Penobscot Mills Hydroelectric Project (project).

f. Location: On the West Branch of the Penobscot River (West Branch) and Millinocket Stream in Piscataquis and Penobscot Counties, Maine.

g. Filed Pursuant to: Federal Power Act, 16 U.S.C. 791(a)-825(r).

h. Applicant Contact: Michael Scarzello, Licensing Manager, Brookfield Renewable U.S., 399 Big Bay Road, Queensbury, NY 12804; (315) 566-0197; Michael.scarzello@brookfieldrenewable.com.

i. FERC Contact: Allan Creamer, Project Coordinator; telephone at (202) 502-8365; email at allan.creamer@ferc.gov.

j. The application is not ready for environmental analysis at this time.

k. Project Description: The Penobscot Mills Project consists of: (1) four hydropower developments (North Twin, Millinocket, Dolby, and East Millinocket; located between river mile 15 and river mile 2 on the West Branch) that include (a) water retaining features (e.g., dam/spillway, flashboards/rubber dam, and dikes), (b) water conduits/canals and penstocks, (c) intake structures equipped with trashracks, (d) four powerhouses, and (e) transmission equipment (e.g., transmission lines); (2) a pool-and-weir fish passage facility at North Twin; and (3) one storage development (Millinocket Lake Storage Development; located on Millinocket Stream). The total rated capacity of the project is 67.9 megawatts. The North Twin impoundment is at the upstream end of the Penobscot Mills Project and receives flow from the Ripogenus Project. Releases from the North Twin Development pass through three other developments (i.e., Millinocket, Dolby, and East Millinocket). The Millinocket Lake Storage Development includes a pumping station through which water can be pumped to Ambajejus Lake (within the North Twin impoundment). Water not pumped to Ambajejus Lake is discharged to Millinocket Stream, which enters the West Branch at Shad Pond, downstream from the Millinocket Development, then passes through the Dolby and East Millinocket Developments. In addition to these developments, the project includes two battery energy sites that operate as a single Battery Energy Storage System to enhance system reliability.

The five developments that compose the Penobscot Mills Project are operated as an integrated system, along with upstream storage projects, including the Ripogenus Project No. 2572, to manage water levels and flows downstream from the project. GLHA operates the North Twin Development as a store-and-release facility, and uses storage in the Millinocket Lake Storage impoundment, as necessary, to maintain North Twin Lake levels. The two storage developments (North Twin and Millinocket Lake Storage) are located upstream of the run-of-release developments (Millinocket, Dolby, and East Millinocket). GLHA releases minimum flows from Millinocket Lake into Millinocket Stream, as well as a continuous minimum flow in the West Branch downstream from the North Twin Development. Additional details regarding the Penobscot Mills Project facilities and operations can be found in Exhibit A (Penobscot Mills Project) and Exhibit B of the license application, and can be access by following the instructions in paragraph l.

GLHA proposes to continue to operate: (1) the North Twin Development for generation and seasonal storage, with target impoundment elevations of 490.42 feet National Geodetic Vertical Datum of 1929 (NGVD 29) from May 1 through August 21 and 488.42 feet NGVD 29 from August 22 through October 15, as well as to provide flows necessary to meet the 2,000-cfs flow requirement in the West Branch downstream from Shad Pond; (2) the Millinocket Lake Storage Development to (a) maintain impoundment elevations between 470 feet and 480 feet NGVD 29, and (b) provide a minimum flow of 60 cubic feet per second (cfs), or inflow (seasonally), to Millinocket Stream; and (3) the Millinocket, Dolby, and East Millinocket Developments as run-of-release facilities. GLHA also proposes to continue to operate and maintain the upstream pool-and-weir fish passage structure at North Twin Dam, post lake level (for North Twin and Millinocket Lake Storage) and flow information on Brookfield's existing SafeWaters website, maintain the 200-foot conservation buffer and 100-foot vegetation buffer around the Millinocket Lake Storage, North Twin, Millinocket, and Dolby impoundments, and maintain Umbazooksus Lake as wetland and wildlife habitat. GLHA also proposes to release a year-round 200-cfs minimum flow from Stone Dam; provide American eel passage, conduct eel studies, and develop a fishway operations and maintenance plan; provide seasonal whitewater boating flows of 600 cfs in Millinocket Stream; and develop an updated wildlife management area plan, a recreation plan, a shoreline management plan, and a historic properties management plan.

l. In addition to publishing this notice in the Federal Register, the Commission provides all interested persons an opportunity to view and/or print the contents of this notice, as well as other documents in the proceeding (e.g., license application) via the internet through the Commission's Home Page (http://www.ferc.gov), using the “eLibrary” link. Enter the docket number, excluding the last three digits in the docket number field to access the document (P-2458). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

n. Procedural Schedule: The application will be processed according to the following preliminary schedule. Revisions to the schedule will be made as appropriate.

Deficiency Letter (if necessary) October 2024

Additional Information Request November 2024

Notice of Acceptance March 2025

Issue Notice of Ready for Environmental Analysis March 2025

o. Final amendments to the application must be filed with the Commission no later than 30 days from the issuance date of the notice of ready for environmental analysis.

Dated: October 15, 2024.
Debbie-Anne A. Reese,
Secretary.

[FR Doc. 2024-24379 Filed 10-21-24; 8:45 am]

BILLING CODE 6717-01-P